SMALL BUSINESS ADMINISTRATION

Committee Management; Notice of Renewal

The Administrator of the U.S. Small Business Administration (SBA) has determined that the renewal of the National Advisory Council is necessary and in the public interest in connection with conducting agency business and with the performance of duties imposed upon the Administrator, U.S. Small Business Administration by 15 U.S.C. 633. This determination follows consultation with the Management Secretariat, U.S. General Services Administration.

Name of Committee: National Advisory Council.

Purpose and Objective: The council provides advice, ideas and opinions on SBA programs and small business issues. The Council's scope of activities includes reviewing SBA programs and informing SBA of current small business issues.

Balanced Membership Plans: The council consists of no more than forty members consisting of four (4) representatives from each of SBA's 10 regions. Although a majority of the members are business owners, there is also a complement of members from key trade associations, academic institutions, and public sector organizations devoted to the promotion of small businesses.

Duration: Continuing.

Responsible SBA Officials: Mina Wales, Director, National Advisory Council, U.S. Small Business Administration, 409 3rd Street, SW., Washington, DC 20416.

Meredith Davis,
Committee Management Officer.

[FR Doc. E8-621 Filed 1-15-08; 8:45 am]

BILLING CODE 8025-01-P